AMTRAK REFORM COUNCIL

Notice of Meeting

AGENCY: Amtrak Reform Council.

ACTION: Notice of Special Public Outreach Hearing for the State of California and a Public Business Meeting.

SUMMARY: As provided in section 203 of the Amtrak Reform and Accountability Act of 1997, the Amtrak Reform Council (ARC) gives notice of a special public outreach meeting of the Council with representatives from the State of California to discuss Amtrak's California services and the California State Rail Program. The Council has invited to the Outreach Hearing, various state legislators, California Department of Transportation officials, various rail corridor officials, rail commuter officials, and Amtrak executives. They will discuss all aspects of current and future intercity railroad passenger service in the State of California.

DATES: The Special Public Outreach Hearing will be held on Thursday, May 18, 2000 from 9:00 a.m. to 5:00 p.m. and the Business Meeting will be held on Friday, May 19, 2000 from 8:00 a.m. to 12:00 p.m. Both the Hearing and Business Meeting are opened to the general public.

ADDRESSES: Both the Outreach Hearing and Business Meeting will take place in the Folsom Room at the Hilton Sacramento Arden West, 2200 Harvard Street, Sacramento, CA 95816. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. You can also visit the ARC's website at www.amtrakreformcouncil.gov, for information regarding ARC's upcoming events, the agenda for meetings, the ARC's First Annual Report, information about the ARC Staff and the Council Members and much more.

SUPPLEMENTARY INFORMATION: The ARC was created by the Amtrak Reform and Accountability Act of 1997 (ARAA), as an independent commission, to evaluate Amtrak's performance and to make recommendations to Amtrak for achieving further cost containment, productivity improvements, and financial reforms. In addition, the ARAA requires that the ARC monitor cost savings resulting from work rules established under new agreements between Amtrak and its labor unions; that the ARC provide an annual report to Congress that includes an assessment of Amtrak's progress on the resolution of productivity issues; and that, after two years, the ARC has the authority to determine whether Amtrak can meet certain financial goals specified under the ARAA and, if not, to notify the President and the Congress.

The ARAA provides that the ARC consist of eleven members, including the Secretary of Transportation and ten others nominated by the President and Congressional leaders. Members serve a five-year term.

Issued in Washington, DC, May 4, 2000.
Thomas A. Till,
Executive Director.

[FR Doc. 00-11782 Filed 5-10-00; 8:45 am]

BILLING CODE 4910-06-P